DEPARTMENT OF ENERGY

Federal Energy Regulatory Commission

[Docket No. RP00-632-009]

Dominion Transmission, Inc.; Notice of Report of Refunds

July 17, 2002.

Take notice that on July 11, 2002, Dominion Transmission, Inc. (DTI) filed its report of refunds attributable to the resolution of the above-captioned proceeding. DTI states that the reported refunds and billing adjustments reflect DTI's implementation of the TCRA settlement in the above-captioned proceeding.

DTI states that the purpose of this filing is provide a revised workpaper to show the effect of DTI's May 8 filing on the balances of the Amortization Adder reported in DTI's original February 26 report. This filing does not make any change to the refunds reported in DTI's February 26 and May 8 filings. (DTI's February 26 filing was the original refund report and the May 8 filing reported a programming anomaly in the DTI allocation process, which when corrected resulted in additional refunds for five customers.)

DTI states that copies of its filing are being mailed to affected customers, interested state commissions and all parties to the above-captioned proceeding.

Any person desiring to protest said filing should file a protest with the Federal Energy Regulatory Commission, 888 First Street, NE., Washington, DC 20426, in accordance with Section 385.211 of the Commission's Rules and Regulations. All such protests must be filed on or before July 24, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-18541 Filed 7-22-02; 8:45 am]

BILLING CODE 6717-01-P